DEPARTMENT OF DEFENSE

GENERAL SERVICES ADMINISTRATION

NATIONAL AERONAUTICS AND SPACE ADMINISTRATION

[OMB Control No. 9000-0037; Docket No. 2020-0053; Sequence No. 11]

Submission for OMB Review; Presolicitation Notice and Response

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision and renewal of a previously approved information collection requirement regarding presolicitation notice and response.

DATES: Submit comments on or before February 4, 2021.

ADDRESSES: Written comments and recommendations for this information collection should be sent within 30 days of publication of this notice to www.reginfo.gov/public/do/PRAMain. Find this particular information collection by selecting “Currently under Review—Open for Public Comments” or by using the search function.

Additionally, submit a copy to GSA through http://www.regulations.gov and follow the instructions on the site. This website provides the ability to type short comments directly into the comment field or attach a file for lengthier comments.

Instructions: All items submitted must cite OMB Control No. 9000-0037, Presolicitation Notice and Response. Comments received generally will be posted without change to http://www.regulations.gov, including any personal and/or business confidential information provided. To confirm receipt of your comment(s), please check www.regulations.gov, approximately two-to-three days after submission to verify posting. If there are difficulties submitting comments, contact the GSA Regulatory Secretariat Division at 202-501-4755 or GSARegSec@gsa.gov.

FOR FURTHER INFORMATION CONTACT: Zenaida Delgado, Procurement Analyst, at telephone 202-969-7207, or zenaida.delgado@gsa.gov.

SUPPLEMENTARY INFORMATION:

A. OMB Control Number, Title, and Any Associated Form(s)

9000-0037, Presolicitation Notice and Response.

B. Need and Uses

Presolicitation notices are used by the Government to inform, and, where specified, solicit a response from potential offerors or bidders. The primary purposes of the notices are to improve small business access to acquisition information and enhance competition by identifying contracting and subcontracting opportunities. This clearance covers the information that offerors must submit to comply with the following Federal Acquisition Regulation (FAR) requirements:

• For sealed bidding (FAR 14.205), presolicitation notices briefly describe requirements and provide other essential information to enable potential bidders to determine whether they have an interest in the invitation and if appropriate, respond by communicating their interest in receiving the invitation for bid.

• For contracting by negotiation (FAR 15.201(c)), presolicitation notices provide a means of early exchanges of information about future acquisitions between Government and industry, to which potential offerors may respond with feedback concerning acquisition strategy, terms and conditions, and any other concerns or questions.

• For construction contracts (FAR 36.213-2), presolicitation notices are required for construction requirements in excess of the simplified acquisition threshold to communicate essential information on the requirements, to which potential bidders may respond communicating their interest in receiving the invitation for bid.

Contracting officers use the information as follows:

• For sealed bidding, to include interested bidders in the distribution of the invitations for bids; and

• For contracting by negotiation, to consider the industry feedback in shaping the acquisition strategy.

C. Annual Burden

Respondents: 59,420.

Total Annual Responses: 178,260.

Total Burden Hours: 14,261.

D. Public Comment

A 60-day notice was published in the Federal Register at 85 FR 66565, on October 20, 2020. One comment was received; however, it did not change the estimate of the burden.

Comment: The commenter requested the requirement for presolicitation notices be removed from the FAR. The commenter does not see their value; and stated that presolicitation notices lengthen the acquisition timelines unnecessarily.

Response: Presolicitation notices are required by statute; see FAR 5.201. The primary purposes of the notices are to improve small business access to acquisition information and enhance competition by identifying contracting and subcontracting opportunities. The commenter did not express an opinion on whether the estimated number of burden hours is accurate; or ways to minimize the burden of the collection of information.

Obtaining Copies: Requesters may obtain a copy of the information collection documents from the GSA Regulatory Secretariat Division, by calling 202-501-4755 or emailing GSARegSec@gsa.gov. Please cite OMB Control No. 9000-0037, Presolicitation Notice and Response.

William F. Clark,
Director, Federal Acquisition Policy Division, Office of Government-wide Acquisition Policy, Office of Acquisition Policy, Office of Government-wide Policy.

[FR Doc. 2020-29171 Filed 1-4-21; 8:45 am]

BILLING CODE 6820-EP-P